POSTAL SERVICE

Sunshine Act Meetings

TIME AND DATE: December 23, 2021, at 11:30 a.m.

PLACE: Washington, DC

STATUS: Closed.

MATTERS TO BE CONSIDERED:

Thursday, December 23, 2021, at 11:30 a.m.

1. Strategic Items.

2. Administrative Items.

GENERAL COUNSEL CERTIFICATION: The General Counsel of the United States Postal Service has certified that the meeting may be closed under the Government in the Sunshine Act.

CONTACT PERSON FOR MORE INFORMATION: Michael J. Elston, Secretary of the Board of Governors, U.S. Postal Service, 475 L'Enfant Plaza SW, Washington, DC 20260-1000. Telephone: (202) 268-4800.

Michael J. Elston,
Secretary.

[FR Doc. 2021-27229 Filed 12-13-21; 11:15 am]

BILLING CODE 7710-12-P